DEPARTMENT OF ENERGY

Federal Energy Regulatory Commission

[Project Nos. 487-120 and 1881-087]

Holtwood, LLC and BIF III Holtwood LLC; Notice of Application for Transfer of Licenses and Soliciting Comments, Motions To Intervene, and Protests

On November 6, 2015, Holtwood, LLC (transferor) and BIF III Holtwood LLC (transferee) filed an application for transfer of licenses of the Wallenpaupack Hydroelectric Project No. 487 located on Wallenpaupack Creek and the Lackawaxen River in Wayne and Pike counties, Pennsylvania and the Holtwood Project No. 1881 located on the Susquehanna River in York and Lancaster counties, Pennsylvania. The projects do not occupy any federal lands.

Applicant Contacts: For transferor: David B. Kinnard, Associate General Counsel, Talen Energy, 303 North Broadway, Suite 400, Billings, MT 59101, Phone: (406) 237-6903, Email: David.Kinnard@talenenergy.com. For transferee: Joshua Stayn, Director, Legal, Services, BIF III Holtwood LLC, 75 State Street, Suite 2701, Boston, MA 02109, Phone: (857) 313-7696, Email: joshua.stayn@brookfieldrenewable.com.

FERC Contact: Patricia W. Gillis, (202) 502-8735.

Deadline for filing comments, motions to intervene, and protests: 30 days from the date that the Commission issues this notice. The Commission strongly encourages electronic filing. Please file comments, motions to intervene, and protests using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket numbers P-487-120 or P-1881-087.

Dated: December 1, 2015.
Nathaniel J. Davis, Sr.,
Deputy Secretary.

[FR Doc. 2015-30739 Filed 12-4-15; 8:45 am]

BILLING CODE 6717-01-P